DEPARTMENT OF THE INTERIOR

Fish and Wildlife Service

[FWS-R2-ES-2014-N245; FXES11130200000-156-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. Both the Act and the National Environmental Policy Act require that we invite public comment before issuing these permits.

DATES: To ensure consideration, written comments must be received on or before February 4, 2015.

ADDRESSES: Susan Jacobsen, Chief, Division of Classification and Restoration, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6665.

SUPPLEMENTARY INFORMATION:

Public Availability of Comments

The Act (16 U.S.C. 1531 et seq.) prohibits activities with endangered and threatened species unless a Federal permit allows such activities. Along with our implementing regulations in the Code of Federal Regulations (CFR) at 50 CFR part 17, the Act provides for permits, and requires that we invite public comment before issuing these permits. A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-022190

Applicant: Arizona-Sonora Desert Museum, Tucson, Arizona.

Applicant requests an amendment to a current permit for research and recovery purposes to collect from the wild and conduct pollination research on 24 Kearney's bluestar (Amsonia kearneyana) from the wild in Arizona.

Permit TE-123070

Applicant: Susana Morales, Tucson, Arizona.

Applicant requests a renewal to a current permit for research and recovery purposes to conduct presence/absence surveys of the following species within Arizona:

• Lesser long-nosed bat (Leptonycteris yerbabuenae)

• Interior least tern (Sterna antillarum)

• Northern aplomado falcon (Falco femoralis)

• Piping plover (Charadrius melodus)

• Red-cockaded woodpecker (Picoides borealis)

Permit TE-802211

Applicant: Texas State University, San Marcos, Texas.

Applicant requests a renewal to a current permit for research and recovery purposes to conduct presence/absence surveys for fountain darter (Etheostoma fonticola), San Marcos salamander (Eurycea nana), and Texas blind salamander (Eurycea rathbuni) within Texas.

Permit TE-51928B

Applicant: Kevin Moczygemba, San Antonio, Texas.

Applicant requests a new permit for research and recovery purposes to conduct presence/absence surveys for golden-cheeked warbler (Dendroica chrysoparia) within Texas.

Permit TE-055419

Applicant: Turner Biological Consulting, Buffalo Gap, Texas.

Applicant requests a renewal to a current permit for research and recovery purposes to conduct presence/absence surveys of the following species in Texas:

• Attwater's greater-prairie chicken (Tympanuchus cupido attwateri)

• Black-capped vireo (Vireo atricapilla)

• Eskimo curlew (Numenius borealis)

• Golden-cheeked warbler (Dendroica chrysoparia)

• Interior least tern (Sterna antillarum)

• Northern aplomado falcon (Falco femoralis)

• Piping plover (Charadrius melodus)

• Red-cockaded woodpecker (Picoides borealis)

Permit TE-51929B

Applicant: Timothy Clark, Austin, Texas.

Applicant requests a new permit for research and recovery purposes to conduct presence/absence surveys for the following species within Texas:

• Bee Creek Cave harvestman (Texella reddelli)

• Black-capped vireo (Vireo atricapilla)

• Bone Cave harvestman (Texella reyesi)

• Braken Bat Cave meshweaver (Cicurina venii)

• Coffin Cave mold beetle (Batrisodes texanus)

• Cokendolpher Cave harvestman (Texella cokendolpheri)

• Golden-cheeked warbler (Dendroica chrysoparia)

• Government Canyon Bat Cave meshweaver (Cicurina vespera)

• Government Canyon Bat Cave spider (Neoleptoneta microps)

• Ground beetle (Unnamed) (Rhadine exilis)

• Ground beetle (Unnamed) (Rhadine infernalis)

• Helotes mold beetle (Batrisodes venyivi)

• Kretschmarr Cave mold beetle (Texamaurops reddelli)

• Madla Cave meshweaver (Cicurina madla)

• Robber Baron Cave meshweaver (Cicurina baronia)

• Tooth Cave ground beetle (Rhadine persephone)

• Tooth Cave pseudoscorpion (Tartarocreagris texana)

• Tooth Cave spider (Neoleptoneta (=Leptoneta) myopica)

Permit TE-52561B

Applicant: Trevor Teague, Sallisaw, Oklahoma.

Applicant requests a new permit for research and recovery purposes to conduct presence/absence surveys of American burying beetle (Nicrophorus americanus) within Arkansas, Kansas, Oklahoma, and Texas.

Permit TE-52562B

Applicant: Andrew Turner, Tulsa, Oklahoma.

Applicant requests a new permit for research and recovery purposes to conduct presence/absence surveys of American burying beetle (Nicrophorus americanus) within Arkansas, Kansas, Oklahoma, and Texas.

Permit TE-59580A

Applicant: Rocky Mountain Ecology, Durango, Colorado

Applicant requests an amendment to a current permit for research and recovery purposes to conduct presence/absence surveys of New Mexico meadow jumping mouse (Zapus hudsonius luteus) within New Mexico and Colorado and Rio Grande silvery minnow (Hybognathus amarus) within New Mexico.

Permit TE-776123

Applicant: Texas A&M University, Galveston, Texas.

Applicant requests a renewal to a current permit for research and recovery purposes to conduct presence/absence surveys, stranding activities, holding, blood collection, and rehabilitation for Kemp's ridley (Lepidochelys kempii), hawksbill (Eretmochelys imbricata), and leatherback (Dermochelys coriacea) sea turtles within Texas.

Permit TE-52816B

Applicant: David Davis, Buffalo Gap, Texas.

Applicant requests a new permit for research and recovery purposes to conduct presence/absence surveys of the following species in Texas:

• Attwater's greater-prairie chicken (Tympanuchus cupido attwateri)

• Black-capped vireo (Vireo atricapilla)

• Eskimo curlew (Numenius borealis)

• Golden-cheeked warbler (Dendroica chrysoparia)

• Interior least tern (Sterna antillarum)

• Northern aplomado falcon (Falco femoralis)

• Ocelot (Leopardus pardalis)

• Piping plover (Charadrius melodus)

• Red-cockaded woodpecker (Picoides borealis)

• Whooping crane (Grus americana)

Permit TE-52820B

Applicant: Vonceil Harmon, Norman, Oklahoma.

Applicant requests a new permit for research and recovery purposes to conduct presence/absence surveys of American burying beetle (Nicrophorus americanus) within Oklahoma.

Permit TE-52821B

Applicant: Dillan Conley, Abilene, Texas.

Applicant requests a new permit for research and recovery purposes to conduct presence/absence surveys of black-capped vireo (Vireo atricapilla) within Texas.

Permit TE-195248

Applicant: Michael Morrison, College Station, Texas.

Applicant requests a renewal to a current permit for research and recovery purposes to conduct presence/absence surveys, nest monitoring, and camera surveys of black-capped vireo (Vireo atricapilla) and golden-cheeked warbler (Dedroica chrysoparia) within Texas.

Permit TE-25609A

Applicant: The Peregrine Fund, Boise, Idaho.

Applicant requests a renewal current permit for research and recovery purposes to conduct the following activities for California condor (Gymnogyps californianus) within Arizona, California, Idaho, New Mexico, Nevada, and Utah: Captive breed and rear; attach radio telemetry devices and wing markers; sample for contaminant analysis and disease detection; assess general health of trapped birds; administer treatment for sick birds; administer vaccines as deemed appropriate; and conduct nest surveys.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: December 19, 2014.
Joy E. Nicholopoulos,
Acting Regional Director, Southwest Region, U.S. Fish and Wildlife Service.

[FR Doc. 2014-30833 Filed 1-2-15; 8:45 am]

BILLING CODE 4310-55-P